DEPARTMENT OF TRANSPORTATION

Federal Aviation Administration

14 CFR Part 39

[Docket No. FAA-2019-0202; Product Identifier 2018-CE-050-AD; Amendment 39-19597; AD 2019-04-01]

RIN 2120-AA64

Airworthiness Directives; HPH s. r.o. Gliders

AGENCY: Federal Aviation Administration (FAA), DOT.

ACTION: Final rule; request for comments.

SUMMARY: We are adopting a new airworthiness directive (AD) for HPH s. r.o. Models Glasfügel 304C, Glasfügel 304CZ, and Glasfügel 304CZ-17 gliders. This AD results from mandatory continuing airworthiness information (MCAI) issued by the aviation authority of another country to identify and correct an unsafe condition on an aviation product. The MCAI describes the unsafe condition as jamming between the double two-ring end of the towing cable and the deflector angles of the center of gravity (C.G.) release mechanism. We are issuing this AD to require actions to address the unsafe condition on these products.

DATES: This AD is effective April 23, 2019

The Director of the Federal Register approved the incorporation by reference of a certain publication listed in this AD as of April 23, 2019.

We must receive comments on this AD by May 20, 2019.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact HPH, spol.s r.o., Čáslavská 234, 284 01 Kutná Hora, Czech Republic; phone: +420 327 513 441; email: info@hph.cz; internet: www.hph.cz. You may view this referenced service information at the FAA, Policy and Innovation, 901 Locust, Kansas City, Missouri 64106. For information on the availability of this material at the FAA, call (816) 329-4148. It is also available on the internet at http://www.regulations.gov by searching for locating Docket No. FAA-2019-0202.

Examining the AD Docket

You may examine the AD docket on the internet at http://www.regulations.gov by searching for and locating Docket No. FAA-2019-0202; or in person at Docket Operations between 9 a.m. and 5 p.m., Monday through Friday, except Federal holidays. The AD docket contains this AD, the regulatory evaluation, any comments received, and other information. The street address for Docket Operations (telephone (800) 647-5527) is in the ADDRESSES section. Comments will be available in the AD docket shortly after receipt.

FOR FURTHER INFORMATION CONTACT: Jim Rutherford, Aerospace Engineer, FAA, Policy and Innovation Divsion, 901 Locust, Room 301, Kansas City, Missouri 64106; telephone: (816) 329-4165; fax: (816) 329-4090; email: jim.rutherford@faa.gov.

SUPPLEMENTARY INFORMATION:

Discussion

The European Aviation Safety Agency (EASA), which is the Technical Agent for the Member States of the European Community, has issued AD No. 2018-0207-E, dated September 19, 2018 (referred to after this as “the MCAI”), to correct an unsafe condition for the specified products. The MCAI states:

Jamming between the double two ring end of the towing cable and the deflector angles of the affected part [C.G. release mechanism] was reported for certain Glasfaser-Flugzeug-Service sailplanes. Subsequent investigation identified incorrect geometry of the deflector angles of the affected part as likely cause of the jamming. Consequently, EASA issued Emergency AD 2018-0143-E to require repetitive inspections.

Due to design similarities between Glasfaser Glasflügel 304 sailplanes and the HPH Glasflügel 304, it was determined that the same unsafe condition could also affect those sailplanes.

This condition, if not detected and corrected, could lead to failure to disconnect the towing cable, possibly resulting in reduced or loss of control of the sailplane.

To address this potential unsafe condition, HPH, spol.s r.o. issued the SB to provide inspection instructions and corrective action.

For the reasons described above, this [EASA] AD requires repetitive inspections of the affected part, and, depending on findings, accomplishment of applicable corrective actions(s).

You may examine the MCAI on the internet at http://www.regulations.gov by searching for and locating Docket No. FAA-2019-0202.

Related Service Information Under 1 CFR Part 51

HPH spol.s r.o. has issued Service bulletin No. G304 CZ-10 a), G304 CZ-17—10 a), G304 C-10 a), dated August 28, 2018 (co-published as one document). The service information contains procedures for measuring the distance between the deflector angles at the C.G. release and modifying the distance between the deflector angles if necessary. This service information is reasonably available because the interested parties have access to it through their normal course of business or by the means identified in the ADDRESSES section of this AD.

Interim Action

We consider this AD interim action. The MCAI requires repeating the actions in this AD at each annual inspection. We plan to publish a notice of proposed rulemaking for these requirements. The planned compliance time for these repetitive measurements would allow enough time to provide notice and opportunity for prior comment.

FAA's Determination and Requirements of This AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design

FAA's Determination of the Effective Date

An unsafe condition exists that requires the immediate adoption of this AD. The FAA has found that the risk to the flying public justifies waiving notice and comment prior to adoption of this rule because this condition, if not detected and corrected, could lead to failure to disconnect the towing cable, possibly resulting in losing of control of the glider, which could cause injury to people on the ground if the towing cable breaks during a winch launch. As such, operators must take corrective action before the next launch of the glider. Therefore, we determined that notice and opportunity for public comment before issuing this AD are impracticable. In addition, for the reasons stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2019-0202; Directorate Identifier 2018-CE-050-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 45 products of U.S. registry. We also estimate that it will take about 1 work-hour per product to measure the distance between the deflector angles. The average labor rate is $85 per work-hour.

Based on these figures, we estimate the cost of this AD on U.S. operators to be $3,825, or $85 per product.

We estimate that any modification of the deflector angles that may be necessary as a result of the inspection will take about 4 work-hours and require parts costing $100, for a cost of $440 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-04-01 HPH s. r.o.: Amendment 39-19597; Docket No. FAA-2019-0202; Directorate Identifier 2018-CE-050-AD.

(a) Effective Date

This AD becomes effective April 23, 2019.

(b) Affected ADs

None.

(c) Applicability

This AD applies to HPH s. r.o. Models Glasfügel 304C, Glasfügel 304CZ, and Glasfügel 304CZ-17 gliders, all serial numbers, certificated in any category, with a center of gravity (C.G.) tow release installed.

(d) Subject

Air Transport Association of America (ATA) Code 25: Equipment/Furnishing.

(e) Reason

This AD was prompted by mandatory continuing airworthiness information (MCAI) issued by the aviation authority of another country to identify and correct an unsafe condition on an aviation product. The MCAI describes the unsafe condition as jamming between the double two-ring end of the towing cable and the deflector angles of >the C.G. release mechanism. We are issuing this AD to prevent failure of the towing cable to disconnect, which could result in reduced or loss of control of the glider or the cable breaking and causing injury to people on the ground.

(f) Actions and Compliance

Unless already done, do the following actions before the next winch launch after April 23, 2019 (the effective date of this AD):

(1) Measure the distance between and parallelism of the deflector angles on the C.G. tow release by following paragraph 1 in the Action section of HPH spol.s r.o. Service bulletin No. G304 CZ—10 a), G304 CZ-17—10 a), G304 C—10 a), dated August 28, 2018 (co-published as one document).

(2) If the distance between the deflector angles is less than 36 mm, before the next winch launch, correct the distance by following paragraph 2 in the Action section of HPH spol.s r.o. Service bulletin No. G304 CZ—10 a), G304 CZ-17—10 a), G304 C—10 a), dated August 28, 2018 (co-published as one document).

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Policy and Innovation Division, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA, or the European Aviation Safety Agency (EASA).

(h) Related Information

Refer to MCAI EASA AD No. 2018-0207-E, dated September 19, 2018, for related information. You may examine the MCAI on the internet at http://www.regulations.gov by searching for and locating Docket No. FAA-2019-0202.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) HPH spol.s r.o. Service bulletin No. G304 CZ—10 a), G304 CZ-17—10 a), G304 C—10 a), dated August 28, 2018 (co-published as one document).

(ii) [Reserved]

(3) For HPH s. r.o. service information identified in this AD, contact HPH, spol.s r.o., Čáslavská 234, 284 01 Kutná Hora, Czech Republic; phone: +420 327 513 441; email: info@hph.cz; internet: www.hph.cz.

(4) You may view this service information at the FAA, Policy and Innovation, 901 Locust, Kansas City, Missouri 64106. For information on the availability of this material at the FAA, call (816) 329-4148. It is also available on the internet at http://www.regulations.gov by searching for locating Docket No. FAA-2019-0202.

(5) You may view this service information that is incorporated by reference at the National Archives and Records Administration (NARA). For information on the availability of this material at NARA, call 202-741-6030, or go to: http://www.archives.gov/federal-register/cfr/ibr-locations.html.

Issued in Kansas City, Missouri, on March 25, 2019.
Melvin J. Johnson,
Aircraft Certification Service, Deputy Director, Policy and Innovation Division, AIR-601.

[FR Doc. 2019-06281 Filed 4-2-19; 8:45 am]

BILLING CODE 4910-13-P